SECURITIES AND EXCHANGE COMMISSION

Sunshine Act Meeting

Notice is hereby given, pursuant to the provisions of the Government in the Sunshine Act, Public Law 94-409, that the staff of the Securities and Exchange Commission will hold a decimalization roundtable discussion on Tuesday, February 5, 2013, in the Auditorium, Room L-002. The meeting will begin at 10:00 a.m. and will be open to the public. Seating will be on a first-come, first served basis. Doors will be open at 9:30 a.m. Visitors will be subject to security checks. The roundtable will be webcast on the Commission's Web site at www.sec.gov and will be archived for later viewing.

On December 28, 2012, the Commission published notice of the roundtable discussion (Release No. 34-68510), indicating that the event is open to the public and inviting the public to submit written comments to the Commission staff. This Sunshine Act notice is being issued because a majority of the Commission may attend the roundtable discussion.

The agenda for the roundtable includes opening remarks followed by three panel discussions. The participants in the first panel will address the impact of tick sizes on small and middle capitalization companies, the economic consequences (including the costs and benefits) of increasing or decreasing minimum tick sizes, and whether other policy alternatives might better address the concerns animating Section 106(b) of the JOBS Act. The participants in the second panel will address the impact of tick sizes on the securities market in general, including what benefits may have been achieved, and what, if any, negative effects have resulted. The participants in the third panel will address potential methods for analysis of the issues, including whether and how to conduct a pilot for alternative minimum tick sizes.

For further information, please contact the Office of the Secretary at (202) 551-5400.

Dated: January 15, 2013.
Kevin M. O'Neill,
Deputy Secretary.

[FR Doc. 2013-00975 Filed 1-15-13; 11:15 am]

BILLING CODE 8011-01-P